DEPARTMENT OF HOMELAND SECURITY

Federal Emergency Management Agency

[Docket ID FEMA-2012-0003; Internal Agency Docket No. FEMA-B-1272]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 6, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1272, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Osage County, Oklahoma, and Incorporated Areas
Maps Available for Inspection Online at: http://riskmap6.com/Community.aspx?cid=229&sid=4
Unincorporated Areas of Osage County | Osage County Planning and Zoning, 628 Kihekah Avenue, Pawhuska, OK 74056.
Jefferson County, Colorado, and Incorporated Areas
Maps Available for Inspection Online at: http://www.bakeraecom.com/index.php/colorado/jefferson-5
City of Arvada | Engineering Department, 8101 Ralston Road, Arvada, CO 80001.
City of Edgewater | 5845 West 25th Avenue, Edgewater, CO 80214.
City of Golden | 1445 10th Street, Golden, CO 80401.
City of Lakewood | 480 South Allison Parkway, Lakewood, CO 80226.
City of Westminster | 4800 West 92nd Avenue, Westminster, CO 80031.
City of Wheat Ridge | Planning and Development, 7500 West 92nd Avenue, Wheat Ridge, CO 80033.
Town of Morrison | Town Offices, 321 Highway 8, Morrison, CO 80465.
Unincorporated Areas of Jefferson County | Jefferson County Department of Planning and Zoning, 100 Jefferson County Parkway, Suite 3, Golden, CO 80401.
Franklin County, Indiana, and Incorporated Areas
Maps Available for Inspection Online at: http://www.in.gov/dnr/water/6644.htm
Town of Brookville | Franklin County Government Center, Area Planning Office, 1010 Franklin Avenue, Brookville, IN 47012.
Town of Cedar Grove | Franklin County Government Center, Area Planning Office, 1010 Franklin Avenue, Brookville, IN 47012.
Unincorporated Areas of Franklin County | Franklin County Government Center, Area Planning Office, 1010 Franklin Avenue, Brookville, IN 47012.
Union County, Indiana, and Incorporated Areas
Maps Available for Inspection Online at: http://www.in.gov/dnr/water/6415.htm
Town of Liberty | Union County Area Plan Commission, 6 West South Street, Liberty, IN 47353.
Unincorporated Areas of Union County | Union County Area Plan Commission, 6 West South Street, Liberty, IN 47353.
Vermillion County, Indiana, and Incorporated Areas
Maps Available for Inspection Online at: http://www.in.gov/dnr/water/6493.htm
City of Clinton | City Hall, 259 Vine Street, Clinton, IN 47842.
Town of Cayuga | Town Hall, 301 South 1st Street, Cayuga, IN 47928.
Town of Newport | Vermillion County Area Plan Commission, 255 South Main Street, Newport, IN 47966.
Town of Perrysville | Town Hall, 130 West Main Street, Perrysville, IN 47974.
Town of Universal | Vermillion County Area Plan Commission, 255 South Main Street, Newport, IN 47966.
Unincorporated Areas of Vermillion County | Vermillion County Area Plan Commission, 255 South Main Street, Newport, IN 47966.
Rankin County, Mississippi, and Incorporated Areas
Maps Available for Inspection Online at: http://www.geology.deq.ms.gov/floodmaps/Projects/FY2009/?county=Rankin
City of Brandon | City Hall, 204 East Government Street, Brandon, MS 39042.
City of Florence | City Hall, 201 North Church Street, Florence, MS 39073.
City of Flowood | City Hall, 2101 North Airport Road, Flowood, MS 39232.
City of Jackson | Department of Public Works, 200 South President Street, Jackson, MS 39205.
City of Pearl | City Hall, 2420 Old Brandon Road, Pearl, MS 39208.
City of Richland | City Hall, 380 Scarborough Street, Richland, MS 39218.
Pearl River Valley Water Supply District | Pearl River Valley Water Supply District, 115 Madison Landing Circle, Ridgeland, MS 39157.
Town of Pelahatchie | Town Hall, 705 2nd Street, Pelahatchie, MS 39145.
Township of Puckett | Town Hall, 118 Cemetary Road, Puckett, MS 39042.
Unincorporated Areas of Rankin County | Rankin County Courthouse, 211 East Government Street, Brandon, MS 39042.
Albany County, New York (All Jurisdictions)
Maps Available for Inspection Online at: http://www.rampp-team.com/ny.htm
City of Albany | City Hall, 24 Eagle Street, Albany, NY 12207.
City of Cohoes | City Hall, 97 Mohawk Street, Cohoes, NY 12047.
City of Watervliet | City Hall, 2 15th Street, Watervliet, NY 12189.
Town of Berne | Town Hall, 1615 Helderberg Trail, Berne, NY 12023.
Town of Bethlehem | Bethlehem Town Hall, 445 Delaware Avenue, Delmar, NY 12054.
Town of Coeymans | Coeymans Town Hall, 18 Russell Avenue, Ravena, NY 12143.
Town of Colonie | Colonie Town Hall, 534 Loudon Road, Newtonville, NY 12128.
Town of Guilderland | Guilderland Town Hall, 5209 Western Turnpike, Altamont, NY 12009.
Town of New Scotland | New Scotland Town Hall, 2029 New Scotland Road, Slingerlands, NY 12159.
Town of Rensselaerville | Rensselaerville Town Hall, 87 Barger Road, Medusa, NY 12120.
Town of Westerlo | Town Hall, 671 County Route 401, Westerlo, NY 12193.
Township of Knox | Town Hall, 2192 Berne-Altamont Road, Knox, NY 12107.
Village of Altamont | Village Hall, 115 Main Street, Altamont, NY 12009.
Village of Green Island | Village Hall, 20 Clinton Street, Green Island, NY 12183.
Village of Menands | Village Hall, 250 Broadway, Menands, NY 12204.
Village of Ravena | Village Hall, 15 Mountain Road, Ravena, NY 12143.
Village of Voorheesville | Village Hall, 29 Voorheesville Avenue, Voorheesville, NY 12186.
Kay County, Oklahoma and Incorporated Areas
Maps Available for Inspection Online at: http://riskmap6.com/Community.aspx?cid=208&sid=4
City of Ponca City | City Hall, 516 East Grand Avenue, Ponca City, OK 74607.
Unincorporated Areas of Kay County | Kay County Courthouse, 115 South Maple Avenue, Newkirk, OK 74647.
Travis County, Texas, and Incorporated Areas
Maps Available for Inspection Online at: http://riskmap6.com/Community.aspx?cid=476&sid=5
City of Austin | Watershed Engineering Division, 505 Barton Springs Road, 12th Floor, Austin, TX 78704.
City of Manor | City Hall, 201 East Parson Street, Manor, TX 78653.
City of Pflugerville | City Hall, 101 South 3rd, Pflugerville, TX 78660.
City of Round Rock | City Hall, 221 East Main Street, Round Rock, TX 78664.
Unincorporated Areas of Travis County | Travis County Transportation and Natural Resources Department, 411 West 13th Street, 8th Floor Permit Counter, Austin, TX 78701.

(Catalog of Federal Domestic Assistance No. 97.022, “Flood Insurance.”)

Dated: October 23, 2012.
James A. Walke,
Acting Deputy Associate Administrator for Mitigation, Department of Homeland Security, Federal Emergency Management Agency.

[FR Doc. 2012-27366 Filed 11-7-12; 8:45 am]

BILLING CODE 9110-12-P